DEPARTMENT OF ENERGY

Federal Energy Regulatory Commission

Combined Notice of Filings #1

Take notice that the Commission received the following exempt wholesale generator filings:

Docket Numbers: EG11-90-000.

Applicants: El Segundo Energy Center LLC.

Description: Notice of Self Certification of Exempt Wholesale Generator Status El Segundo Energy Center LLC.

Filed Date: 06/06/2011.

Accession Number: 20110606-5059.

Comment Date: 5 p.m. Eastern Time on Monday, June 27, 2011.

Docket Numbers: EG11-91-000.

Applicants: Mojave Solar LLC.

Description: Self-Certification of Mojave Solar LLC as an Exempt Wholesale Generator.

Filed Date: 06/03/2011.

Accession Number: 20110603-5383.

Comment Date: 5 p.m. Eastern Time on Friday, June 24, 2011.

Docket Numbers: EG11-92-000.

Applicants: Pocahontas Prairie Wind, LLC.

Description: Notice of Self- Certification of Exempt Wholesale Generator of Pocahontas Prairie Wind, LLC.

Filed Date: 06/06/2011.

Accession Number: 20110606-5202.

Comment Date: 5 p.m. Eastern Time on Monday, June 27, 2011.

Docket Numbers: EG11-93-000.

Applicants: Pocahontas Prairie Wind, LLC.

Description: Notice of Self-Certification of Exempt Wholesale Generator Status of Pocahontas Prairie Wind, LLC.

Filed Date: 06/06/2011.

Accession Number: 20110606-5203.

Comment Date: 5 p.m. Eastern Time on Monday, June 27, 2011.

Take notice that the Commission received the following electric rate filings:

Docket Numbers: ER10-1556-003.

Applicants: Longview Power.

Description: Triennial Market Power Analysis and Notice of Change in Status of Longview Power, LLC.

Filed Date: 06/03/2011.

Accession Number: 20110603-5327.

Comment Date: 5 p.m. Eastern Time on Tuesday, August 2, 2011.

Docket Numbers: ER10-2481-001.

Applicants: Ingenco Wholesale Power, L.L.C.

Description: Triennial Market Power Analysis Filing and Notice of Change in Status of Ingenco Wholesale Power, LLC.

Filed Date: 06/06/2011.

Accession Number: 20110606-5142.

Comment Date: 5 p.m. Eastern Time on Friday, August 5, 2011.

Docket Numbers: ER10-2776-002.

Applicants: Wells Fargo Commodities, LLC.

Description: Notice of Non-Material Change in Status of Wells Fargo Commodities, LLC.

Filed Date: 05/31/2011.

Accession Number: 20110531-5201.

Comment Date: 5 p.m. Eastern Time on Tuesday, June 21, 2011.

Docket Numbers: ER11-2480-002.

Applicants: Green Valley Hydro, LLC.

Description: Green Valley Hydro, LLC submits tariff filing per 35: Green Valley ER11-2480 Correction to be effective 2/22/2011.

Filed Date: 06/06/2011.

Accession Number: 20110606-5090.

Comment Date: 5 p.m. Eastern Time on Monday, June 27, 2011.

Docket Numbers: ER11-3725-000.

Applicants: Central Maine Power Company.

Description: Central Maine Power Company submits tariff filing per 35.13(a)(2)(iii: Central Maine Power Company—Filing of Agreements to be effective 5/6/2011.

Filed Date: 06/06/2011.

Accession Number: 20110606-5003.

Comment Date: 5 p.m. Eastern Time on Monday, June 27, 2011.

Docket Numbers: ER11-3726-000.

Applicants: El Segundo Power II LLC.

Description: El Segundo Power II LLC submits tariff filing per 35.15: Cancellation of Market-Based Rate Tariff to be effective 8/5/2011.

Filed Date: 06/06/2011.

Accession Number: 20110606-5039.

Comment Date: 5 p.m. Eastern Time on Monday, June 27, 2011.

Docket Numbers: ER11-3727-000.

Applicants: El Segundo Energy Center LLC.

Description: El Segundo Energy Center LLC submits tariff filing per 35.12: MBR Application to be effective 8/5/2011.

Filed Date: 06/06/2011.

Accession Number: 20110606-5042.

Comment Date: 5 p.m. Eastern Time on Monday, June 27, 2011.

Docket Numbers: ER11-3729-000.

Applicants: Jump Power LLC.

Description: Jump Power LLC submits tariff filing per 35.15: Notice of Cancellation of MBR Tariff & Revised Tariff Sheets for Jump Power, LLC to be effective 6/7/2011.

Filed Date: 06/06/2011.

Accession Number: 20110606-5081.

Comment Date: 5 p.m. Eastern Time on Monday, June 27, 2011.

Docket Numbers: ER11-3730-000.

Applicants: Entergy Arkansas, Inc.

Description: Entergy Arkansas, Inc. submits tariff filing per 35.13(a)(2)(iii: 42 Amendment to Exhibit A to be effective 7/1/2011.

Filed Date: 06/06/2011.

Accession Number: 20110606-5087.

Comment Date: 5 p.m. Eastern Time on Monday, June 27, 2011.

Docket Numbers: ER11-3731-000.

Applicants: LWP Lessee, LLC.

Description: LWP Lessee, LLC submits tariff filing per 35.12: Baseline MBR Application Filing to be effective 7/1/2011 under ER11-3731.

Filed Date: 06/06/2011.

Accession Number: 20110606-5089.

Comment Date: 5 p.m. Eastern Time on Monday, June 27, 2011.

Docket Numbers: ER11-3732-000.

Applicants: Buchanan Generation, LLC.

Description: Buchanan Generation, LLC submits tariff filing per 35: Buchanan ER11-2478 Correction Filing to be effective 2/22/2011.

Filed Date: 06/06/2011.

Accession Number: 20110606-5092.

Comment Date: 5 p.m. Eastern Time on Monday, June 27, 2011.

Docket Numbers: ER11-3733-000.

Applicants: Monongahela Power Company.

Description: Monongahela Power Company submits tariff filing per 35: Allegheny Power ER11-2481 Correction to be effective 2/22/2011.

Filed Date: 06/06/2011.

Accession Number: 20110606-5102.

Comment Date: 5 p.m. Eastern Time on Monday, June 27, 2011.

Docket Numbers: ER11-3734-000.

Applicants: CPI Energy Services (US) LLC.

Description: CPI Energy Services (US) LLC submits tariff filing per 35: CPI Energy Services (US) LLC's Change of Status in Market-Based Rate Filing to be effective 4/29/2011.

Filed Date: 06/06/2011.

Accession Number: 20110606-5131.

Comment Date: 5 p.m. Eastern Time on Monday, June 27, 2011.

Docket Numbers: ER11-3735-000.

Applicants: Puget Sound Energy, Inc.

Description: Puget Sound Energy, Inc. submits tariff filing per 35.13(a)(1): Schedule 3 and 13 Wind Integration Filing to be effective 8/5/2011.

Filed Date: 06/06/2011.

Accession Number: 20110606-5132.

Comment Date: 5 p.m. Eastern Time on Monday, June 27, 2011.

Docket Numbers: ER11-3736-000.

Applicants: Pocahontas Prairie Wind, LLC.

Description: Pocahontas Prairie Wind, LLC submits tariff filing per 35.12: Pocahontas Prairie Wind, LLC MBR Tariff to be effective 8/5/2011.

Filed Date: 06/06/2011.

Accession Number: 20110606-5134.

Comment Date: 5 p.m. Eastern Time on Monday, June 27, 2011.

Docket Numbers: ER11-3737-000.

Applicants: Kansas City Power & Light Company.

Description: Termination of Rate Schedules of Kansas City Power & Light Company.

Filed Date: 06/03/2011.

Accession Number: 20110603-5351.

Comment Date: 5 p.m. Eastern Time on Friday, June 24, 2011.

Docket Numbers: ER11-3738-000.

Applicants: Nevada Power Company.

Description: Nevada Power Company cancellation of FERC Electric Rate Schedule No. 36—Interconnection agreement with City of Anaheim.

Filed Date: 06/06/2011.

Accession Number: 20110606-5137.

Comment Date: 5 p.m. Eastern Time on Monday, June 27, 2011.

Docket Numbers: ER11-3739-000.

Applicants: Nevada Power Company.

Description: Nevada Power Company Cancellation of FERC Electric Rate Schedule Nos. 49 (Interconnection Agreement) & 53 (Supplemental Power Service) with Lincoln Co. Power District No. 1.

Filed Date: 06/06/2011.

Accession Number: 20110606-5138.

Comment Date: 5 p.m. Eastern Time on Monday, June 27, 2011.

Take notice that the Commission received the following electric reliability filings:

Docket Numbers: RD11-5-000.

Applicants: North American Electric Reliability Corp.

Description: Petition of the North American Electric Reliability Corporation for Approval of Interpretations to Reliability Standard PRC-004-1 and PRC-005-1.

Filed Date: 04/15/2011.

Accession Number: 20110415-5288.

Comment Date: 5 p.m. Eastern Time on Friday, July 1, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Dated: June 7, 2011.
Nathaniel J. Davis, Sr.,
Deputy Secretary.

[FR Doc. 2011-14545 Filed 6-10-11; 8:45 am]

BILLING CODE 6717-01-P